DEPARTMENT OF TRANSPORTATION

Office of the Secretary

[Docket No. DOT-OST-2018-0190]

Aviation Consumer Protection Advisory Committee Matters

AGENCY: Office of the Secretary (OST), Department of Transportation (DOT).

ACTION: Notice of public meeting.

SUMMARY: The U.S. Department of Transportation (Department) announces a public meeting of the Aviation Consumer Protection Advisory Committee (ACPAC) on September 24, 2020. Three topics will be discussed at that meeting—(1) the report of the National In-Flight Sexual Misconduct Task Force (Task Force), an ACPAC subcommittee; (2) transparency of airline ancillary service fees; and (3) involuntary changes to travel itineraries.

DATES: The meeting will be held from 9:30 a.m.-4:00 p.m., Eastern Daylight Time on September 24, 2020.

ADDRESSES: The meeting will be open to the public and held virtually. Virtual attendance information will be provided upon registration. A detailed agenda will be available on the ACPAC website at https://www.transportation.gov/airconsumer/ACPAC at least one week before the meeting, along with copies of the meeting minutes after the meeting.

FOR FURTHER INFORMATION CONTACT: To register and attend this virtual meeting, please contact the Department by email at ACPAC@dot.gov. Attendance is open to the public subject to any technical and/or capacity limitations. For further information, contact Stuart Hindman, Senior Attorney, by email at Stuart.Hindman@dot.gov or 202-366-9342.

SUPPLEMENTARY INFORMATION:

I. Background

On November 23, 2018, the Department announced the reformation of the Aviation Consumer Protection Advisory Committee, formerly known as the Advisory Committee on Aviation Consumer Protection, as a Federal advisory committee. The FAA Reauthorization Act of 2018 (2018 FAA Act), signed by President Trump on October 5, 2018, extended the authorization for the ACPAC from September 30, 2018, to September 30, 2023. The Department appointed new members to the ACPAC, and established the Task Force as an ACPAC subcommittee.

The Committee held a public meeting on April 4, 2019. During that meeting, the Committee discussed: (1) The establishment of the Task Force (including the tasks to be carried out by the Task Force); (2) transparency of airline ancillary service fees; and (3) involuntary changes to travel itineraries.

On March 16, 2020, the Task Force submitted a report to the ACPAC on awareness, training, reporting, and data collection regarding incidents of sexual misconduct by passengers onboard commercial aircraft. That report is available for public review on the ACPAC's docket, DOT-OST-2018-0190.

Moreover, earlier this year, the Secretary appointed Christopher Carr, Attorney General of Georgia, as the State or local government representative and Chair of the Committee, to replace the outgoing State and local government representative and Chair, Pete Rahn.

II. Agenda

During the meeting the Committee will discuss and deliberate on the report of the Task Force, as well as the information and recommendations made to the Committee at the previous public meeting on the topics of the transparency of airline ancillary service fees and involuntary changes to itineraries.

III. Public Participation

The meeting will be open to the public and attendance may be limited due to virtual meeting constraints. To register, please send an email to the Department as set forth in the FOR FURTHER INFORMATION CONTACT section. The Department is committed to providing equal access to this meeting for all participants. If you need alternative formats or services because of a disability, such as sign language interpreter or other ancillary aids, please contact the person listed in the FOR FURTHER INFORMATION CONTACT section.

Members of the public may also present written comments at any time. The docket number referenced above (DOT-OST-2018-0190) has been established for committee documents including any written comments that may be filed. At the discretion of the Chairperson, after completion of the planned agenda, individual members of the public may provide oral comments time permitting. Any oral comments presented must be limited to the objectives of the committee and will be limited to five (5) minutes per person. Individual members of the public who wish to present oral comments must notify the Department of Transportation contact noted above via email that they wish to attend and present oral comments no later than Thursday, September 17, 2020.

Speakers are requested to submit a written copy of their prepared remarks for inclusion in the meeting records and for circulation to ACPAC members by September 21, 2020. All prepared remarks submitted on time will be accepted and considered as part of the meeting's record.

IV. Viewing Documents

You may view documents mentioned in this notice at https://www.regulations.gov. After entering the docket number (DOT-OST-2018-0190), click the link to “Open Docket Folder” and choose the document to review.

Issued in Washington, DC, this day of August 25, 2020.
Steven G. Bradbury,
General Counsel.

[FR Doc. 2020-19161 Filed 9-4-20; 8:45 am]

BILLING CODE 4910-9X-P